DEPARTMENT OF EDUCATION

National Institute on Disability and Rehabilitation Research—Disability and Rehabilitation Research Projects and Centers Program—Disability Rehabilitation Research Projects (DRRPs), Rehabilitation Research and Training Centers (RRTCs), and Rehabilitation Engineering Research Centers (RERCs)

AGENCY: Office of Special Education and Rehabilitative Services, Department of Education.

ACTION: Notice of proposed priorities for DRRPs, RRTCs, and RERCs.

SUMMARY: The Assistant Secretary for Special Education and Rehabilitative Services proposes certain funding priorities for the Disability and Rehabilitation Research Projects and Centers Program administered by the National Institute on Disability and Rehabilitation Research (NIDRR). Specifically, this notice proposes one priority for a DRRP, one priority for an RRTC, and one priority for an RERC. The Assistant Secretary may use these priorities for competitions in fiscal year (FY) 2008 and later years. We take this action to focus research attention on areas of national need. We intend these priorities to improve rehabilitation services and outcomes for individuals with disabilities.

DATES: We must receive your comments on or before May 22, 2008.

ADDRESSES: Address all comments about Priority 1—Centers on Research and Capacity Building to Improve Outcomes for Individuals With Disabilities from Traditionally Underserved Racial and Ethnic Populations to Marlene Spencer, U.S. Department of Education, 400 Maryland Avenue, SW., room 6026, Potomac Center Potomac (PCP), Washington, DC 20202-2700. If you prefer to send your comments through the Internet, use the following address: marlene.spencer@ed.gov.

Address all comments about Priority 2—Individuals With Disabilities Living in Rural Areas and Priority 3—Technologies for Successful Aging With Disability to Donna Nangle, U.S. Department of Education, 400 Maryland Avenue, SW., room 6029, PCP, Washington, DC 20202-2700. If you prefer to send your comments through the Internet, use the following address: donna.nangle@ed.gov.

If you send your comments through the Internet, you must include the priority title in the subject line of your electronic message.

FOR FURTHER INFORMATION CONTACT: For further information regarding Priority 1—Centers on Research and Capacity Building to Improve Outcomes for Individuals With Disabilities from Traditionally Underserved Racial and Ethnic Populations, contact Marlene Spencer. Telephone: (202) 245-7532.

For further information regarding Priority 2—Individuals With Disabilities Living in Rural Areas and Priority 3—Technologies for Successful Aging With Disability, contact Donna Nangle. Telephone: (202) 245-7462.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: This notice of proposed priorities is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Invitation To Comment

We invite you to submit comments regarding these proposed priorities. To ensure that your comments have maximum effect in developing the notice of final priorities, we urge you to identify clearly the specific proposed priority or topic that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in room 6030, 550 12th Street, SW., PCP, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in one or more notices in the Federal Register. We will determine the final priorities after considering responses to this notice and other information available to the Department. This notice does not preclude us from proposing or using additional priorities, subject to meeting applicable rulemaking requirements.

Note: This notice does not solicit applications. In any year in which we choose to use these proposed priorities, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priorities

In this notice, we are proposing one priority for a DRRP, one priority for an RRTC, and one priority for an RERC.

For the DRRP, the proposed priority is:

• Priority 1—Centers on Research and Capacity Building to Improve Outcomes for Individuals With Disabilities from Traditionally Underserved Racial and Ethnic Populations.

For the RRTC, the proposed priority is:

• Priority 2—Individuals With Disabilities Living in Rural Areas.

For the RERC, the proposed priority is:

• Priority 3—Technologies for Successful Aging With Disability.

Disability and Rehabilitation Research Projects (DRRP) Program

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Proposed Priority

Priority 1—Centers on Research and Capacity Building To Improve Outcomes for Individuals With Disabilities From Traditionally Underserved Racial and Ethnic Populations

Background

In the United States (U.S.), most racial and ethnic minority populations have higher rates of disability than the non-Hispanic white and Asian populations. Non-Hispanic whites and Asians have the lowest rates of disability in the U.S.; specifically, 18 percent of non-Hispanic whites and 17 percent of Asians report having a disability. In contrast, approximately 24 percent of African Americans and approximately 24 percent of American Indians and Alaskan Natives report having a disability. Twenty-one percent of the Hispanic or Latino population and 19 percent of the Native Hawaiian or other Pacific Islander populations report having a disability (U.S. Bureau of the Census, 2003). In addition to having higher disability rates, racial and ethnic minority populations in the U.S. are growing faster than the non-Hispanic white population and now comprise approximately one third of the U.S. population (U.S. Bureau of the Census, 2007).

Individuals with disabilities from most racial and ethnic minority populations in the U.S. face unique on-going barriers to full participation in society, and there is a general lack of research addressing the important question of which interventions can be employed to address those barriers effectively (National Council on Disability, 2003).

These long-standing demographic trends provided the basis for section 21 of the Rehabilitation Act, as amended (Rehabilitation Act). Section 21 of the Rehabilitation Act requires NIDRR to reserve a portion of its funds each year to carry out certain outreach activities, including making awards to minority entities and Indian tribes to conduct research, training, and technical assistance or related activities to improve services for individuals with disabilities under the Rehabilitation Act, especially individuals from racial and ethnic minority populations. The section 21 requirements are aligned with NIDRR's commitment to advance theories, measures, interventions, and products that lead to improved employment, community participation, and health and function outcomes for all individuals with disabilities, including individuals from racial and ethnic minority populations.

One critical aspect of NIDRR's work in this area is building the capacity of the disability and rehabilitation research field to engage in rigorous and culturally-relevant research. This capacity building includes providing opportunities for advanced research and advanced research training at minority entities, as defined in section 21(b)(5)(B) of the Rehabilitation Act. These minority entities are defined to include historically black colleges and universities, Hispanic-serving institutions of higher education, Indian tribal colleges and universities, and other institutions of higher education with a minority student enrollment of at least 50 percent. Capacity building also includes sponsoring outreach activities to reach minority entities and Indian tribes in order to promote their participation in advanced disability and rehabilitation research.

References

National Council on Disability (2003). Outreach and People With Disabilities From Diverse Cultures. A Review of the Literature. http://www.ncd.gov/newsroom/advisory/cultural/cdi_litreview.htm.

U.S. Bureau of the Census. (2007). Minority Population Tops 100 Million. May 17, 2007 Press Release. http://www.census.gov/Press-Release/www/releases/archives/population/010048.html.

U.S. Bureau of the Census. (2003). Disability Status: 2000. Census 2000 Brief. http://www.census.gov/prod/2003pubs/c2kbr-17.pdf.

Proposed Priority

The Assistant Secretary for Special Education and Rehabilitative Services proposes a priority to establish, under the Disability and Rehabilitation Research Project (DRRP) program, Centers on Research and Capacity Building to Improve Outcomes for Individuals With Disabilities from Traditionally Underserved Racial and Ethnic Populations (each a Center).

This priority is intended to improve the quality and utility of research related to individuals with disabilities from traditionally underserved racial and ethnic populations in the United States and to enhance the capacity of minority entities (as defined in section 21(b)(5)(B) of the Rehabilitation Act, as amended) to conduct this research. Under this priority, each Center must be designed to contribute to the following outcomes:

(a) New knowledge about rehabilitation and independent living services and outcomes for individuals with disabilities from traditionally underserved racial and ethnic populations, and knowledge about how services for these populations can be improved. Each Center must contribute to this outcome by conducting research that examines service experiences and outcomes for individuals with disabilities from traditionally underserved racial and ethnic populations.

(b) Improved capacity to conduct high quality research and develop new knowledge about rehabilitation and independent living services and outcomes for individuals with disabilities from traditionally underserved racial and ethnic populations. Each Center must contribute to this outcome by developing strategic research and capacity-building collaborations with other entities that have demonstrated expertise in conducting high quality disability and rehabilitation research.

Applicants must focus their research activities on topics that fall under at least one of the following major life domains, which are identified in NIDRR's Final Long-Range Plan for FY 2005-2009:

(1) Employment. Topics of interest under this domain include but are not limited to the following: (a) The unique experiences and factors that influence outcomes for individuals with disabilities from traditionally underserved racial and ethnic populations who are served by the State vocational rehabilitation (VR) services program; and (b) VR services and approaches that improve the employment outcomes of individuals with disabilities from racial and ethnic minority populations.

(2) Participation and Community Living. Topics of interest under this domain include but are not limited to the following: (a) the unique experiences and factors that affect community participation and community living outcomes of individuals with disabilities from racial and ethnic minority populations who are served by Department-funded centers for independent living (CILs); and (b) independent living services that improve the community participation outcomes of individuals with disabilities from racial and ethnic minority populations who are served by CILs.

(3) Health and Function. Topics of interest under this domain include but are not limited to the following: (a) The unique experiences and factors that affect health and function outcomes for individuals with disabilities from racial and ethnic minority populations who receive clinical services in medical rehabilitation programs; and (b) medical rehabilitation services or approaches that improve the health, function, employment, or community participation outcomes for individuals with disabilities from racial and ethnic minority populations.

In carrying out the purposes of the priority, each Center must—

• Involve individuals with disabilities from traditionally underserved racial and ethnic populations in planning and implementing the Center's activities, and evaluating its work;

• Develop, implement, and evaluate dissemination strategies for research and technical assistance products developed by the project;

• Develop and regularly update an online information dissemination system that meets a government- or industry-recognized standard for accessibility;

• Provide research-based expertise, consultation, and technical assistance to relevant service providers who are seeking to improve outcomes of individuals with disabilities from traditionally underserved populations; and

• Through consultation with the NIDRR project officer, coordinate and establish partnerships, as appropriate, with other academic institutions and organizations that are relevant to the project's proposed activities.

Rehabilitation Research and Training Centers (RRTCs)

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (72 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Priority 2—Individuals With Disabilities Living in Rural Areas

Background

Current population estimates indicate that approximately 10 million (17 percent) of the 62 million individuals 5 years of age and older living in the rural United States have one or more disabilities. More than two million (20 percent) of these individuals with disabilities are living below the poverty level. In addition to being more likely to live in poverty than their non-disabled counterparts, individuals with disabilities living in rural areas are more likely to be 65 years of age and older, less likely to be employed, and more likely to be disabled veterans than are urban residents with disabilities (U.S. Census Bureau, 2006 American Community Survey) (Census Briefs).

Low population density, lack of accessible public transportation, and shortages of public health and other providers may limit options for employment, community participation, and access to programs and services for individuals with disabilities living in rural America (National Council on Disability, 2007; Phillips & McLerory, 2004; Gamm et al., 2003). These characteristics of life in rural areas significantly affect vulnerable members of the population, including individuals with disabilities.

Previous NIDRR-funded research on vocational rehabilitation services for individuals with disabilities who live in rural areas found that individuals with disabilities who live in rural areas have higher rates of self-employment than other populations (Arnold, 1995). These findings led to changes within State VR programs to expand self-employment opportunities for individuals with disabilities in both rural and urban areas. These changes included greater recognition of self-employment as an acceptable employment outcome, and an increased use of rehabilitation approaches that promote self-employment among State VR program clients (Arnold & Ipsen, 2005). Despite this and other research-based changes in practice that have expanded rural employment opportunities and improved outcomes over time, individuals with severe disabilities who live in rural areas continue to have poor employment outcomes relative to individuals with severe disabilities living in urban areas (Lustig, Strauser, & Weems, 2004). There is a need for additional research to identify programs or interventions that can increase employment outcomes and economic well-being among individuals with disabilities living in rural areas.

Characteristics of life in rural areas also make access to health care difficult for individuals with disabilities. Lack of medical specialists in rural areas often necessitates frequent long-distance travel to large medical centers, and limited public transportation options in rural areas make it difficult for individuals with disabilities to access routine health care services (Iezzoni, Killeen, & O'Day, 2006). Additional research is necessary to identify programs or interventions that can reduce barriers to health care services for individuals with disabilities living in rural areas, and to improve the health and function of this population.

References

Arnold, N. (1995). Self-Employment as a Vocational Rehabilitation Employment Outcome in Rural and Urban Areas. Rehabilitation Counseling Bulletin, 39(2), 94-106.

Arnold, N., & Ipsen, C. (2005). Self-Employment Policies: Changes Through The Decade. Journal of Disability Policy Studies, 16(2), 115-122.

Gamm, L.D., Hutchison, L.L., Dabney, B.J., & Dorsey, A.M. (2003). Rural healthy people 2010: A companion document to healthy people 2010. College Station, Texas: The Texas A&M University System Health Science Center, School of Rural Public Health, Southwest Rural Health Research Center. http://centers.srph.tamhsc.edu/centers/rhp2010/introvol1.htm.

Iezzoni, L., Killeen, M., & O'Day, B. (2006). Rural Residents With Disabilities Confront Substantial Barriers to Obtaining Primary Care. Health Services Research, 41(4), 1258-1275.

Lustig, D., Strauser, D., & Weems, G. (2004). Rehabilitation Service Patterns: A Rural/Urban Comparison of Success Factors. Journal of Rehabilitation, 70(3), 13-19.

National Advisory Committee on Rural Health and Human Services Publications. (2006). The 2006 Report to the Secretary: Rural Health and Human Service Issues. Washington, DC: U.S. Department of Health and Human Services. http://ruralcommittee.hrsa.gov/NAC06AReport.htm#Family.

National Council on Disability. (2007). The impact of the Americans with Disabilities Act: Assessing the progress toward achieving the goals of the ADA. Washington, DC: National Council on Disability. http://www.ncd.gov/newsroom/publications/2007/ada_impact_07-26-07.htm.

Phillips, C., & McLeroy, K. (2004). Health in Rural America: Remembering the Importance of Place. American Journal of Public Health, 94(10), 1661-1663.

Richardson, C., & Waldrop, J. (2003). Veterans: 2000. Census 2000 Brief. Washington, DC: U.S. Census Bureau.

U.S. Census Bureau. (2006). 2006 American Community Survey. Table S1801 Disability Characteristics. http://factfinder.census.gov/servlet/STTable?_bm=y&-geo&_id=01000US&-qr_name=ACS_2006_EST_G00_S1801&-ds_name=ACS_2006_EST_G00_.

Proposed Priority:

The Assistant Secretary for Special Education and Rehabilitative Services proposes a priority for a Rehabilitation Research and Training Center (RRTC) on Individuals With Disabilities Living in Rural Areas. This RRTC must conduct rigorous research, training, technical assistance, and dissemination activities to improve the employment, economic, and health outcomes for individuals with disabilities in rural areas of the United States (U.S.). The RRTC must identify programs, service delivery approaches, or interventions that support and lead to improved outcomes in these areas. Where possible, the RRTC must use a rigorous (i.e., experimental or quasi-experimental) design to evaluate these programs, service delivery approaches, or interventions. Under this priority, the RRTC must be designed to contribute to the following outcomes:

(a) Policies, programs, or interventions that improve employment and economic outcomes for individuals with disabilities living in rural areas. The RRTC must contribute to this outcome by identifying evidence-based interventions, including exemplary vocational rehabilitation strategies, or developing and testing new interventions to improve employment and economic outcomes for these individuals.

(b) Rehabilitation or community-based programs or interventions that enhance access to health services and improve the health and function of individuals with disabilities living in rural areas of the U.S. The RRTC must contribute to this outcome by identifying, developing or modifying, and evaluating new programs or interventions to determine their effectiveness in enhancing access to health services and improving the health and function of individuals with disabilities living in rural areas of the U.S.

(c) Enhancement of the knowledge base of rehabilitation and health providers who deliver services to individuals with disabilities living in rural areas of the U.S. The RRTC must contribute to this outcome by developing, evaluating, and implementing research-based training and technical assistance programs and initiatives that are based upon findings from research activities described in paragraphs (a) and (b) of this priority.

Rehabilitation Engineering Research Centers Program

General Requirements of Rehabilitation Engineering Research Centers (RERCs)

RERCs carry out research or demonstration activities in support of the Rehabilitation Act of 1973, as amended, by—

• Developing and disseminating innovative methods of applying advanced technology, scientific achievement, and psychological and social knowledge to: (a) Solve rehabilitation problems and remove environmental barriers; and (b) study and evaluate new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of consumer-responsive and individual and family-centered innovative models for the delivery to both rural and urban areas of innovative cost-effective rehabilitation technology services; and (b) other scientific research to assist in meeting the employment and independence needs of individuals with severe disabilities.

Each RERC must be operated by, or in collaboration with, one or more institutions of higher education or one or more nonprofit organizations.

Each RERC must provide training opportunities, in conjunction with institutions of higher education and nonprofit organizations, to assist individuals, including individuals with disabilities, to become rehabilitation technology researchers and practitioners.

Each RERC must emphasize the principles of universal design in its product research and development. Universal design is “the design of products and environments to be usable by all people, to the greatest extent possible, without the need for adaptation or specialized design” (North Carolina State University, 1997. http://www.design.ncsu.edu/cud/about_ud/udprinciplestext.htm).

Additional information on the RERC program can be found at: http://www.ed.gov/rschstat/research/pubs/index.html.

Priority 3—Technologies for Successful Aging With Disability

Background

Results from the American Community Survey (ACS) indicate that, in 2006, the overall prevalence rate of disability among working-age individuals ages 21 to 64 was 12.9 percent (22.4 million), compared to 30.2 percent for individuals ages 65 to 74 (5.6 million), and 52.6 percent for individuals 75 years of age and older (8.9 million). In addition, the number of Americans who are 55 years of age and older will nearly double between now and 2030—from 60 million to 107.6 million—as the Baby Boomers reach retirement age (Experience Corps, 2007). Given the strong relationship between age and disability, the total number of working-age and older adults living with a disability is expected to grow significantly as the United States (U.S.) population ages rapidly in the coming decades.

Thirty-seven percent of adults aged 65 and older reported having a severe disability in 2002. About 16 percent of adults in this age cohort require assistance to carry out daily activities and meet important personal needs (Steinmetz, 2006). Also, a large segment of the working-age population with disabilities is aging into midlife with disabilities that were acquired at birth through young-adulthood (McNeil, 1997). Evidence from empirical studies funded by NIDRR over the past few years indicates that many members of this working-age cohort are at risk of experiencing new health conditions and impairments that will undermine their community participation and community living, and result in “premature aging” (Kemp, 2005; Rimmer, 2005). Taken together, these studies point to two important segments of the U.S. population who will experience the dual effects of aging and disability—individuals with life-long and long-term disabilities, and individuals who age into disability for the first time in later life.

Despite the increased risks of disability associated with aging, older Americans strongly prefer to remain in their homes, use public services, and function independently as they age. A nationwide telephone survey of 2,000 individuals, conducted by the American Association of Retired Persons (AARP), found that “more than 8 in 10 respondents age 45 and over (including many Baby Boomers)—and more than 9 in 10 of those 65 and over—say they would like to stay where they are for as long as possible. Even if they should need help caring for themselves, 82 percent would prefer not to move from their current homes and many say they are modifying their residences to make this possible” (Bayer & Harper, 2000).

Currently, more than 12 million individuals in the U.S., about 80 percent of whom are 50 years of age or older and about half of whom are 65 years of age or older, need some type of long-term care services and supports, including assistive technologies, to perform daily activities and remain in their homes (International Longevity Center, 2006).

Assistive technology use has increased for all ages, but especially for those 65 years of age and over (Russell et al., 1997). A 1992 study estimated that 2.5 million individuals, or about 1 percent of the U.S. population, have an unmet need for assistive technology devices (LaPlante et al., 1992).

Designing appropriate and cost-effective assistive technologies for aging adults with disabilities will require a better understanding of the unique needs of technology users among this population, and the circumstances under which technology can most effectively be used to meet such needs (Agree & Freedman, 2003). Accordingly, NIDRR seeks to fund an RERC that will evaluate new or existing technologies to address the challenges of community participation, employment, and community living experienced by middle-age and older adults with disabilities.

References

Agree, E.M., & Freedman, V.A. (2003). A Comparison of Assistive Technology and Personal Care in Alleviating Disability and Unmet Need. Gerontologist, 43(3), 335-344.

Bayer, A., & Harper, L. (2000). Fixing to Stay: A National Survey on Housing and Home Modification Issues—Research Report. Washington, DC: AARP.

Experience Corps. (2007). Fact Sheet on Aging in America. Retrieved March 3, 2008 from: http://www.experiencecorps.org/images/pdf/Fact%20Sheet.pdf.

International Longevity Center, and the Schmieding Center for Senior Health and Education of Northwest Arkansas. (2006). Caregiving In America. Retrieved March 3, 2008 from: http://www.ilcusa.org/media/pdfs/Caregiving%20in%20America-%20Final.pdf.

Kemp, B.J. (2005). What the rehabilitation professional and the consumer need to know. In Adrian Cristian (Ed.), Aging with a Disability. Physical Medicine and Rehabilitation Clinics of North America, 16, 1-18. Burlington, MA: Elsevier Inc.

LaPlante, M.P., Hendershot, G.E., & Moss, A.J. (1992). Assistive technology devices and home accessibility features: prevalence, payment, need, and trends. Advance Data from Vital and Health Statistics, No. 217. Hyattsville, MD: National Center for Health Statistics.

McNeil, J.M. (1997). Americans with Disabilities; 1994-95. Current Population Reports, Report No. P70-61. Washington, DC: U.S. Government Printing Office. http://www.census.gov/prod/3/97pubs/p70-61.pdf.

Rimmer, J.L. (2005). Exercise and physical activity in persons aging with a physical disability. In Adrian Cristian (Ed.), Aging with a Disability. Physical Medicine and Rehabilitation Clinics of North America, 16, 41-56. Burlington, MA: Elsevier Inc.

Russell, J.N., Hendershot, G.E., LeClere, F., Howie, J., & Adler, M. (1997). Trends and differential use of assistive technology devices: United States, 1994. Advance Data from Vital and Health Statistics; No. 292. Hyattsville, MD: National Center for Health Statistics.

Steinmetz, E. (2006). Americans With Disabilities: 2002, Current Population Reports. Washington, DC: U.S. Census Bureau.

Proposed Priority

The Assistant Secretary for Special Education and Rehabilitative Services proposes a priority for the establishment of an RERC for Technologies for Successful Aging with Disability. Under this priority, the RERC must research, evaluate, and develop new assistive technologies and approaches, or modify and apply existing technologies and approaches that address the challenges to community participation experienced by middle-age and older adults with disabilities in home, work, or community settings.

Under this priority, the RERC must be designed to contribute to the following outcomes:

(a) Increased technical and scientific knowledge regarding the use of technologies for successful aging with disability. The RERC must contribute to this outcome by conducting no more than four rigorous research and development projects that address the needs of individuals with disabilities and that use state-of-the-art methodologies. These projects must generate measurable results and improve policy, practice, or system capacity to use technology to meet the community participation needs of individuals who are aging with disabilities, or who are aging into disability.

(b) Improved technologies, technology-based products, and environments for successful aging with disability. The RERC must contribute to this outcome by developing new, or modifying and applying existing technologies, technology-based products, and built environments, and testing and evaluating their utility for intended users.

(c) Increased impact of research in the area of technologies for successful aging with disability. The RERC must contribute to this outcome by providing technical assistance to public and private organizations, individuals with disabilities, and employers on policies, guidelines, and standards related to the use of technologies to facilitate successful aging with disability.

(d) Increased transfer of RERC-developed technologies to the marketplace. The RERC must contribute to this outcome by developing and implementing a technology transfer plan for ensuring that all technologies developed by the RERC are made available to the public. The RERC must develop its technology transfer plan in the first year of the project period in consultation with the NIDRR-funded Disability and Rehabilitation Research Project, Center on Knowledge Translation for Technology Transfer.

In addition, the RERC must—

• Have the capability to design, build, and test prototype devices and assist in the transfer of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research (NCDDR), a plan to disseminate its research results to individuals with disabilities, their representatives, disability organizations, service providers, professional journals, manufacturers, and other interested parties;

• Conduct a state-of-the-science conference on its designated priority research area in the fourth year of the project period, and publish a comprehensive report on the final outcomes of the conference in the fifth year of the project period; and

• Coordinate research projects of mutual interest with relevant NIDRR-funded projects, as identified through consultation with the NIDRR project officer.

Executive Order 12866

This notice of proposed priorities has been reviewed in accordance with Executive Order 12866. Under the terms of the order, we have assessed the potential costs and benefits of this regulatory action.

The potential costs associated with this notice of proposed priorities are those resulting from statutory requirements and those we have determined as necessary for administering this program effectively and efficiently.

In assessing the potential costs and benefits—both quantitative and qualitative—of this notice of proposed priorities, we have determined that the benefits of the proposed priorities justify the costs.

Summary of Potential Costs and Benefits

The benefits of the Disability and Rehabilitation Research Projects and Centers Programs have been well established over the years in that similar projects have been completed successfully. These proposed priorities will generate new knowledge and technologies through research, development, dissemination, utilization, and technical assistance projects.

Another benefit of these proposed priorities is that the establishment of a new DRRP, a new RRTC, and a new RERC will support the President's NFI and will improve the lives of individuals with disabilities. The new DRRP, RRTC, and RERC will generate, disseminate, and promote the use of new information that will improve the options for individuals with disabilities to perform regular activities in the community.

Intergovernmental Review

This program is not subject to Executive Order 12372 and the regulations in 34 part 79.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A Disability Rehabilitation Research Projects, 84.133B Rehabilitation Research and Training Centers, and 84.133E Rehabilitation Engineering Research Centers Program)

Program Authority: 29 U.S.C. 762(g), 764(a), 764(b)(2), and 764(b)(3).

Dated: April 17, 2008.
Tracy R. Justesen,
Assistant Secretary for Special Education and Rehabilitative Services.

[FR Doc. E8-8714 Filed 4-21-08; 8:45 am]

BILLING CODE 4000-01-P